INTERNATIONAL TRADE COMMISSION

[Inv. No. 337-TA-646]

In the Matter of Certain Power Supplies; Notice of Investigation

AGENCY: U.S. International Trade Commission.

ACTION: Institution of investigation pursuant to 19 U.S.C. 1337.

SUMMARY: Notice is hereby given that a complaint was filed with the U.S. International Trade Commission on April 4, 2008, under section 337 of the Tariff Act of 1930, as amended, 19 U.S.C. 1337, on behalf of Ultra Products, Inc. of Fletcher, Ohio and Systemax Inc. of Port Washington, New York. A supplement to the complaint was filed on May 1, 2008. The complaint alleges violations of section 337 based upon the importation into the United States, the sale for importation, and the sale within the United States after importation of certain power supplies that infringe certain claims of U.S. Patent No. 7,133,293. The complaint further alleges that an industry in the United States exists as required by subsection (a)(2) of section 337.

The complainants request that the Commission institute an investigation and, after the investigation, issue an exclusion order and cease and desist orders.

ADDRESSES: The complaint and the supplement, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Thomas S. Fusco, Esq., Office of Unfair Import Investigations, U.S. International Trade Commission, telephone (202) 205-2571.

Authority: The authority for institution of this investigation is contained in section 337 of the Tariff Act of 1930, as amended, and in section 210.10 of the Commission's Rules of Practice and Procedure, 19 CFR 210.10 (2007).

Scope of Investigation: Having considered the complaint, the U.S. International Trade Commission, on May 1, 2008, ordered that—

(1) Pursuant to subsection (b) of section 337 of the Tariff Act of 1930, as amended, an investigation be instituted to determine whether there is a violation of subsection (a)(1)(B) of section 337 in the importation into the United States, the sale for importation, or the sale within the United States after importation of certain power supplies that infringe one or more of claims 1 and 4 of U.S. Patent No. 7,133,293, and whether an industry in the United States exists as required by subsection (a)(2) of section 337;

(2) For the purpose of the investigation so instituted, the following are hereby named as parties upon which this notice of investigation shall be served:

(a) The complainants are—

Ultra Products, Inc., 6910 State Road 36, Fletcher, Ohio 45326. Systemax, Inc.,11 Harbor Park Drive, Port Washington, New York 11050.

(b) The respondents are the following entities alleged to be in violation of section 337, and are the parties upon which the complaint is to be served:

Aerocool Advanced, Technologies Corporation, 13F-2, No. 75, Hsin Tai Wu Road, Sec. 1 Hsi Chih, Taipei Hsien 221, Taiwan.

Langears, Inc. d/b/a Aerocool US, 41662 Christy Street, Fremont, California 94538. Andyson International Co., Ltd.,Third Floor, 153 Pei-Shen Road, Sec. 3, Shen-Keng Village,Taipei 222, Taiwan.

Atng Power Co., Ltd. a/k/a I Horng, Power Co., Ltd., Third Floor-9, 14 Lane 609 Chung Shin Road, Sec. 5, San Chung, Taipei Hsien 241, Taiwan.

Coolmax Technology Inc., 8F, No. 165, Sec. 2, Datung Road, Hsi-Chih City, Taipei 221,Taiwan.

Enermax Technology Corporation, 15F-2, No. 888, Jing-Kuo Road, Taoyuan, Taiwan. Enermax USA Corporation, 17733 Rowland Street, City of Industry, California 91748.

High Performance Enterprise PLC, d/b/a High Performance Group or Hiper Group, Unit 1, The I/O Centre, Fingle Drive, Milton Keynes, MK13 OAT,United Kingdom.

High Performance Group Inc., d/b/a High Performance Group or Hiper Group, Foster City Executive Park, 551 Foster City Boulevard, Suite D, San Mateo, California 94404.

KWI Technology Inc. d/b/a Kingwin, 18221 Railroad Street, City of Industry, California 91748. San Hawk Technic Co., Ltd., a/k/a Sky Hawk Group, 6F, No. 665, Chung Cheng Road, Hsin Chuang, Taipei, Taiwan.

Eagle Technology Inc., a/k/a Sky Hawk USA or Eagle Tech, 18539 East Gale Avenue, City of Industry, California 91748.

Sunbeam Company, Room 406, Building A, No. 18, Sihyuan Street, Jhongjheng District, Taipei City 100, Taiwan.

Sunbeamtech, Inc., 15339 Don Julian Road, Hacienda Heights, California 91748.

(c) The Commission investigative attorney, party to this investigation, is Thomas S. Fusco, Esq., Office of Unfair Import Investigations, U.S. International Trade Commission, 500 E Street, SW., Room 401B, Washington, DC 20436; and

(4) For the investigation so instituted, the Honorable Charles E. Bullock is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of the respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: May 2, 2008.
Marilyn R. Abbott,
Secretary to the Commission.

[FR Doc. E8-10175 Filed 5-7-08; 8:45 am]

BILLING CODE 7020-02-P